DEPARTMENT OF ENERGY

Federal Energy Regulatory Commission

[Docket Nos. ER07-360-000; EL07-39-000]

New York Independent System Operator, Inc.; Notice of Institution of Proceeding and Refund Effective Date

March 7, 2007.

On March 6, 2007, the Commission issued an order that instituted a proceeding in Docket No. EL07-39-000, pursuant to section 206 of the Federal Power Act (FPA), 16 U.S.C. 824e (2005), concerning the justness and reasonableness of the New York Independent System Operator, Inc.'s in-city ICAP market. New York Independent System Operator, Inc., 118 FERC ¶ 61,182 (2007).

The refund effective date in Docket No. EL07-39-000, established pursuant to section 206(b) of the FPA, will be 60 days from the date of publication of this notice in the Federal Register.

Philis J. Posey,
Acting Secretary.

[FR Doc. E7-4476 Filed 3-12-07; 8:45 am]

BILLING CODE 6717-01-P